DEPARTMENT OF LABOR

Office of Workers' Compensation Programs

[OMB Control No. 1240-0006]

Proposed Extension of Information Collection; Claim for Reimbursement of Benefit Payments and Claims Expense Under the War Hazards Compensation Act

AGENCY: Office of Workers' Compensation Programs, Division of Federal Employees' Compensation, (OWCP/DFEC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Compensation, (OWCP/DFEC) is soliciting comments on the information collection for the Claim for Reimbursement of Benefit Payments and Claims Expense under the War Hazards Compensation Act, CA-278.

DATES: All comments must be received on or before November 10, 2025.

ADDRESSES: You may submit comment as follows. Please note that late, untimely filed comments will not be considered.

Electronic Submissions: Submit electronic comments in the following way:

• Federal eRulemaking Portal: https://www.regulations.gov. Follow the instructions for submitting comments for WCPO-2025-0039. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP/DFEC, Office of Workers' Compensation Programs, Division of Federal Employees' Compensation, U.S. Department of Labor, 200 Constitution Ave. NW, Room S-3323, Washington, DC 20210.

• OWCP/DFEC will post your comment as well as any attachments, except for information submitted and marked as confidential, in the docket at https://www.regulations.gov.

FOR FURTHER INFORMATION CONTACT: Anjanette Suggs, Office of Workers' Compensation Programs, OWCP/DFEC, at suggs.anjanette@dol.gov (email); (202) 354-9660 (voice).

SUPPLEMENTARY INFORMATION:

I. Background

The Office of Workers' Compensation Programs (OWCP) is the federal agency responsible for administration of the War Hazards Compensation Act (WHCA), 42 U.S.C. 1701 et seq. A “war-risk hazard” is defined in 42 U.S.C. 1711(b). Under section 1704(a) of the WHCA, an insurance carrier or self-insured who has paid workers' compensation benefits to or on account of any person for a war-risk hazard may seek reimbursement for benefits paid (plus expenses) out of the Employment Compensation Fund of the Federal Employees' Compensation Act (FECA) at 5 U.S.C. 8147.

https://www.gpo.gov/fdsys/pkg/USCODE-2013-title42/pdf/USCODE-2013-title42-chap12-subchapI.pdf.

https://www.dol.gov/owcp/dfec/regs/statutes/feca.htm#8147.

Insurance carriers and the self-insured request reimbursement via form CA-278. The regulations that implement the WHCA permit OWCP to collect the information needed to consider an insurance carrier's or self-insured's reimbursement request at 20 CFR 61.101 and 61.104.

https://www.gpo.gov/fdsys/pkg/CFR-2010-title20-vol1/pdf/CFR-2010-title20-vol1-part61-subpartB.pdf.

Applicable statutes under WHCA are 42 U.S.C. 1704 and 42 U.S.C. 1706.

See: https://www.gpo.gov/fdsys/pkg/USCODE-2013-title42/pdf/USCODE-2013-title42-chap12-subchapI.pdf.

Applicable status under FECA are 5 U.S.C. 8121, 5 U.S.C. 8145, and 5 U.S.C. 8149.

See: https://www.dol.gov/owcp/dfec/regs/statutes/feca.htm.

Form CA-278 is used by insurance carriers and the self-insured to request reimbursement. The information collected is used by OWCP staff to process requests for reimbursement of WHCA benefit payments and claims expense that are submitted by insurance carriers and self-insureds. The information is also used by OWCP to decide whether it should opt to pay ongoing WHCA benefits directly to the injured worker.

II. Desired Focus of Comments

OWCP/DFEC is soliciting comments concerning the proposed information collection related to the Request for Employment Information. OWCP/DFEC is particularly interested in comments that:

• Evaluate whether the collection of information is necessary for the proper performance of the functions of the Agency, including whether the information has practical utility;

• Evaluate the accuracy of OWCP/DFEC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP/DFEC located at 200 Constitution Ave. NW, Room S-3323, Washington, DC 20210. Questions about the information collection requirements may be directed to the person listed in the FOR FURTHER INFORMATION section of this notice.

III. Current Actions

This information collection request concerns the Claim for Reimbursement of Benefit Payments and Claims Expense under the War Hazards Compensation Act, CA-278. OWCP/DFEC has updated the data with respect to the number of respondents, responses, burden hours, and burden costs supporting this information collection request from the previous information collection request.

Type of Review: Revision of a currently approved collection.

Agency: Office of Workers' Compensation Programs, Division of Federal Employees' Compensation, OWCP/DFEC.

OMB Number: 1240-0006.

Affected Public: Business or other for profits.

Number of Respondents: 7.

Frequency: 180.6.

Number of Responses: 1,264.

Annual Burden Hours: 632 hours.

Annual Respondent or Recordkeeper Cost: $2,920.00.

OWCP/DFEC Form: Form CA-278, Claim for Reimbursement of Benefit Payments and Claims Expense under the War Hazards Compensation Act.

Comments submitted in response to this notice will be summarized in the request for Office of Management and Budget approval of the proposed information collection request; they will become a matter of public record and will be available at https://www.reginfo.gov.

Anjanette Suggs,
Certifying Officer.

[FR Doc. 2025-17326 Filed 9-9-25; 8:45 am]

BILLING CODE 4510-CH-P